DEPARTMENT OF THE INTERIOR

National Park Service

National Register of Historic Places; Notification of Pending Nominations

Nominations for the following properties being considered for listing in the National Register were received by the National Park Service before November 10, 2001. Pursuant to section 60.13 of 36 CFR part 60 written comments concerning the significance of these properties under the National Register criteria for evaluation may be forwarded by United States Postal Service, to the National Register of Historic Places, National Park Service, 1849 C St. NW., NC400, Washington, DC 20240; by all other carriers, National Register of Historic Places, National Park Service, 800 N. Capitol St. NW., Suite 400, Washington DC 20002; or by fax, 202-343-1836. Written or faxed comments should be submitted by December 24, 2001.

Carol D. Shull,
Keeper of the National Register Of Historic Places.

FLORIDA

Miami-Dade County

Curtiss, Glenn, House (Country Club Estates TR), 500 Deer Run, Miami Springs, 01001359

Polk County

Winston School, 3415 Swindell Rd., Lakeland, 01001362

MISSOURI

St. Louis Independent city

Forest Park Southeast Historic District, Roughly bounded by Chouteau Ave., Manchester and Cadet Aves., Kingshighway Blvd., and S. Sarah St., St. Louis (Independent City), 01001360

OHIO

Summit County

Akron—Fulton International Airport Administration Building, 1800 Triplett Blvd., Akron, 01001361

VERMONT

Addison County

Lampson School (Educational Resources of Vermont MPS), 44 Summer Rd., New Haven, 01001363

Chittenden County

North Street Historic District, Roughly Along North St., from North Ave. to N. Winooski Ave., Burlington, 01001364

[FR Doc. 01-30334 Filed 12-6-01; 8:45 am]

BILLING CODE 4310-70-P